DEPARTMENT OF THE INTERIOR

Bureau of Land Management

[BLM_AZ_FRN_MO4500176275]

Notice of Public Comment Period on Proposed Recreational Shooting Closure in the Sonoran Desert National Monument, AZ

AGENCY: Bureau of Land Management, Interior.

ACTION: Notice of comment period.

SUMMARY: In accordance with the John D. Dingell, Jr. Conservation, Management, and Recreation Act of 2019, the Bureau of Land Management (BLM) is giving notice of a 60-day public comment period on the proposed recreational shooting closure included in the Proposed Sonoran Desert National Monument (SDNM) Resource Management Plan (RMP) Amendment and Final Environmental Assessment (2023).

DATES: The BLM will accept comments on the proposed SDNM target shooting closure included in the preferred alternative for 60 days. Written comments must be postmarked or electronically submitted to the BLM email address listed in the ADDRESSES section no later than March 22, 2024.

ADDRESSES: You may submit comments regarding the proposed recreational shooting closures, by any of these methods:

• Email: BLM_AZ_SDNMtargetshooting@blm.gov

• Mail: BLM, Sonoran Desert National Monument, Attn.: RMPA EA, 2020 E Bell Road, Phoenix, AZ 85022.

You may examine documents and maps pertinent to this proposal online at https://eplanning.blm.gov/eplanning-ui/project/2019811/510 or at the Phoenix District Office, 2020 E Bell Road, Phoenix, Arizona 85022.

FOR FURTHER INFORMATION CONTACT: Tyler Lindsey, Lower Sonoran Field Manager, telephone 480-259-7436; address 2020 E. Bell Road, Phoenix, Arizona 85022; email tlindsey@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Proposed SDNM RMP Amendment and Final Environmental Assessment considered four alternatives with a range of acres available for recreational target shooting. The preferred alternative in the proposed amendment is Alternative C, which would close 480,496 acres of public lands in the SDNM to recreational target shooting. Recreational target shooting would remain available on 5,295 acres of the SDNM. These lands are administered by the BLM Lower Sonoran Field Office. The proposed closure is for the smallest area necessary to ensure compliance with Presidential Proclamation 7397 and protect the objects and values for which the monument was designated. The proposed closure was analyzed in the environmental assessment.

The Sonoran Desert National Monument was established by Presidential Proclamation 7397 in 2001 and contains approximately 485,791 acres of BLM-administered public lands in Maricopa and Pinal counties, Arizona. The monument was created to protect an array of scientific, biological, archaeological, geological, cultural, and historic objects (66 FR 7354).

The BLM completed the SDNM Record of Decision and Approved RMP in 2012. Under a March 2015 court order, the BLM was required to reanalyze the impacts of recreational target shooting in the monument. In 2018, the BLM amended the RMP to allow dispersed recreational shooting in approximately 90 percent of the monument. That decision was challenged in 2019, and a settlement agreement in that case required this new planning effort.

The BLM prepared the SDNM Recreational Target Shooting RMP Amendment and Environmental Assessment in response to the April 2022 settlement agreement. The RMP Amendment considers whether and where recreational target shooting should be allowed in the monument, along with any associated management actions. In accordance with the settlement agreement, the BLM prepared a suitability analysis that considered those areas of the monument that are suitable for recreational target shooting based on the presence of monument objects, the resiliency of those objects to recreational target shooting, and topographic features. This information, in addition to public safety considerations and federal and state laws and regulations governing the discharge of firearms on public lands, helped inform the alternatives analyzed in the EA.

The National Park Service and the Arizona Game and Fish Department participated as cooperating agencies in the development of the RMP Amendment.

Following the public comment period, the BLM will respond to the substantive comments regarding the proposed recreational shooting closure in its decision document. See https://eplanning.blm.gov/eplanning-ui/project/2019811/510.

To afford the BLM the opportunity to consider comments on the proposed SDNM target shooting closures before approval of the Decision Record/RMP Amendment, please ensure your comments are received by the date listed in the DATES section. Comments may be submitted using the methods listed in the ADDRESSES section above.

The proposed RMP Amendment and finding of no significant impact also include a 30-day protest period that begins with the 60-day Dingell Act comment period announced under this notice. Information on filing a plan protest is available online at https://www.blm.gov/programs/planning-and-nepa/public-participation/filing-a-plan-protest.

Before including your address, phone number, email address, or other personal identifying information in any comment, be aware that your entire comment, including your personal identifying information, may be made publicly available at any time. While you can ask us in your comment to withhold your personal identifying information from public review, the BLM cannot guarantee that we will be able to do so.

Authority: 16 U.S.C. 7913 and 43 CFR 1610.2.

Raymond Suazo,
State Director, Arizona.

[FR Doc. 2024-01063 Filed 1-19-24; 8:45 am]

BILLING CODE 4331-12-P